DEPARTMENT OF ENERGY

Federal Energy Regulatory Commission

Combined Notice of Filings #1

June 24, 2009.

Take notice that the Commission received the following electric rate filings:

Docket Numbers: ER09-1044-001.

Applicants: Northwestern Wisconsin Electric Company.

Description: Northwestern Wisconsin Electric Company submits Original Sheet No 1 to Eighth Revised FERC Rate Schedule No 2 et al.

Filed Date: 06/23/2009.

Accession Number: 20090624-0005.

Comment Date: 5 p.m. Eastern Time on Tuesday, July 14, 2009.

Docket Numbers: ER09-1309-000.

Applicants: PacifiCorp.

Description: PacifiCorp submits revisions to its FERC Electric Tariff, Seventh Revised Volume No 11.

Filed Date: 06/16/2009.

Accession Number: 20090617-0166.

Comment Date: 5 p.m. Eastern Time on Tuesday, July 07, 2009.

Docket Numbers: ER09-1310-000.

Applicants: PacifiCorp.

Description: PacifiCorp submits updated Exhibit 1 to the Amended and Restated Facilities Rental and Wheeling Agreement between PacifiCorp and Moon Lake Electric Association.

Filed Date: 06/16/2009.

Accession Number: 20090617-0168.

Comment Date: 5 p.m. Eastern Time on Tuesday, July 07, 2009.

Docket Numbers: ER09-1311-000.

Applicants: Entergy Arkansas, Inc.

Description: Entergy Arkansas, Inc submits Notice of Termination of Service Agreement No 38 etc.

Filed Date: 06/16/2009.

Accession Number: 20090617-0167.

Comment Date: 5 p.m. Eastern Time on Tuesday, July 07, 2009.

Docket Numbers: ER09-1312-000.

Applicants: Riverside Energy Center, LLC.

Description: Riverside Energy Center, LLC submits revised Rate Schedule FERC No 2.

Filed Date: 06/16/2009.

Accession Number: 20090617-0169.

Comment Date: 5 p.m. Eastern Time on Tuesday, July 07, 2009.

Docket Numbers: ER09-1313-000.

Applicants: RockGen Energy LLC.

Description: RockGen Energy, LLC submits revised Rate Schedule FERC No 3.

Filed Date: 06/16/2009.

Accession Number: 20090617-0170.

Comment Date: 5 p.m. Eastern Time on Tuesday, July 07, 2009.

Docket Numbers: ER09-1343-000.

Applicants: Southwest Power Pool, Inc.

Description: Southwest Power Pool, Inc submits revised pages to its Open Access Transmission Tariff to implement rate changes for Westar Energy, Inc and Oklahoma Gas & Electric, which are transmission owners and pricing zones etc.

Filed Date: 06/23/2009.

Accession Number: 20090624-0004.

Comment Date: 5 p.m. Eastern Time on Tuesday, July 14, 2009.

Docket Numbers: ER09-1344-000.

Applicants: NextEra Energy Power Marketing, LLC.

Description: Motion of NextEra Energy Power Marketing, LLC. Requesting Limited Waiver of Forward Capacity Auction Qualification Rules.

Filed Date: 06/23/2009.

Accession Number: 20090624-0006.

Comment Date: 5 p.m. Eastern Time on Tuesday, July 07, 2009.

Docket Numbers: ER09-1345-000.

Applicants: Southern California Edison Company.

Description: Southern California Edison Company submits for filing changes under Volume 6—Service Agreement et al. to Rate Schedule FERC No 466 et al.

Filed Date: 06/23/2009.

Accession Number: 20090624-0002.

Comment Date: 5 p.m. Eastern Time on Tuesday, July 14, 2009.

Docket Numbers: ER09-1346-000.

Applicants: PJM Interconnection, LLC.

Description: PJM Interconnection, LLC requests limited one-time waivers of certain provisions of the Reliability Assurance Agreement among Load-Serving Entities in the PJM Region etc.

Filed Date: 06/23/2009.

Accession Number: 20090624-0009.

Comment Date: 5 p.m. Eastern Time on Tuesday, July 14, 2009.

Docket Numbers: ER09-1347-000.

Applicants: Mirant Energy Trading, LLC.

Description: Motion for Limited Waiver and Request for Shortened Comment Period and Expedited Treatment of Mirant Energy Trading, LLC.

Filed Date: 06/23/2009.

Accession Number: 20090623-5122.

Comment Date: 5 p.m. Eastern Time on Tuesday, July 07, 2009.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-15864 Filed 7-6-09; 8:45 am]

BILLING CODE 6717-01-P